DEPARTMENT OF HOMELAND SECURITY

Federal Emergency Management Agency

44 CFR Part 67

[Docket No. FEMA-B-7770]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before July 2, 2008.

ADDRESSES: The corresponding preliminary Flood Insurance Rate Map (FIRM) for the proposed BFEs for each community are available for inspection at the community's map repository. The respective addresses are listed in the table below.

You may submit comments, identified by Docket No. FEMA-B-7770, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Crawford County, Kansas, and Incorporated Areas
Cow Creek | Approximately 0.34 mile downstream of South Broadway | None | +878 | Unincorporated Areas of Crawford County, City of Pittsburg.
| Confluence of Second Cow Creek | None | +891 |
East Fork of Taylor Branch | Approximately 0.35 mile downstream of East 4th Street | None | +899 | Unincorporated Areas of Crawford County, City of Pittsburg.
| At East Atkinson Avenue | None | +930 |
First Cow Creek | Confluence with Second Cow Creek | None | +891 | Unincorporated Areas of Crawford County, City of Pittsburg.
| Approximately 53 feet upstream of West 20th Street | None | +908 |
Taylor Branch | Confluence with East Fork Taylor Branch | None | +897 | City of Pittsburg.
| Approximately 0.36 mile upstream of East 10th Street | None | +934 |
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Pittsburg
Maps are available for inspection at 201 West 4th Street, Pittsburg, KS 66762.
Unincorporated Areas of Crawford County
Maps are available for inspection at 111 East Forest, Suite M, Girard, KS 66743.
Yadkin County, North Carolina, and Incorporated Areas
Arnold Branch | At the confluence with South Deep Creek | None | +1030 | Unincorporated Areas of Yadkin County.
| Approximately 0.5 mile upstream of Rena Road (State Road 1316) | None | +1113 |
Beaverdam Creek | At the confluence with Cobb Creek and Jonesville Creek | None | +909 | Unincorporated Areas of Yadkin County, Town of Jonesville.
| Approximately 1,190 feet upstream of Haynes Road (State Road 1312) | None | +1030 |
Big Kennedy Creek | At the Iredell/Yadkin County boundary | None | +847 | Unincorporated Areas of Yadkin County.
| Approximately 160 feet upstream of the Iredell/Yadkin County boundary | None | +849 |
Cain Mill Branch | At the Davie/Yadkin County boundary | None | +795 | Unincorporated Areas of Yadkin County.
| Approximately 1,590 feet upstream of Snow Road (State Road 1160) | None | +858 |
Chinquapin Creek | At the Davie/Yadkin County boundary | None | +788 | Unincorporated Areas of Yadkin County.
| Approximately 90 feet downstream of Baity Road (State Road 1723) | None | +805 |
Cobb Creek | At the confluence with Beaverdam Ceek and Jonesville Creek | None | +909 | Unincorporated Areas of Yadkin County, Town of Jonesville.
| Approximately 1.2 miles upstream of Swaim Road | None | +951 |
Cranberry Creek | At the confluence with South Deep Creek | None | +844 | Unincorporated Areas of Yadkin County.
| Approximately 1.9 miles upstream of Whitaker Road (State Road 1334) | None | +1019 |
Deep Creek | At the confluence with Yadkin River | None | +718 | Unincorporated Areas of Yadkin County.
| Approximately 1,150 feet downstream of Speer Bridge Road (State Road 1711) | +732 | +731 |
Dobbins Creek | At the confluence with North Little Hunting Creek | None | +977 | Unincorporated Areas of Yadkin County.
| Approximately 0.6 mile upstream of Twin Creek Road (State Road 1319) | None | +1060 |
Dobbins Creek Tributary | At the confluence with Dobbins Creek | None | +1040 | Unincorporated Areas of Yadkin County.
| At the downstream side of Sandy Creek Drive | None | +1051 |
Fall Creek | At the confluence with Yadkin River | None | +833 | Unincorporated Areas of Yadkin County.
| Approximately 1,575 feet upstream of NC Highway 67 | None | +960 |
Fisher Creek | At the confluence with South Deep Creek | None | +777 | Unincorporated Areas of Yadkin County.
| Approximately 910 feet upstream of Brandon Hills Road (State Road 1153) | None | +798 |
Flat Rock Branch | At the confluence with North Little Hunting Ceek | None | +839 | Unincorporated Areas of Yadkin County.
| Approximately 810 feet downstream of Flat Rock Church Road | None | +941 |
Forbush Creek | At the confluence with Yadkin River | None | +720 | Unincorporated Areas of Yadkin County.
| Approximately 400 feet upstream of Union Grove Church Road (State Road 1585) | None | +922 |
Forbush Creek Tributary 1 | At the confluence with Forbush Creek | None | +747 | Unincorporated Areas of Yadkin County.
| Approximately 0.7 mile upstream of the confluence with Forbush Creek | None | +762 |
Forbush Creek Tributary 2 | At the confluence with Forbush Creek | None | +748 | Unincorporated Areas of Yadkin County.
| Approximately 1.1 miles upstream of the confluence with Forbush Creek | None | +795 |
Forbush Creek Tributary 3 | At the confluence with Forbush Creek | None | +809 | Unincorporated Areas of Yadkin County.
| Approximately 0.5 mile upstream of the confluence with Forbush Creek | None | +836 |
Forbush Creek Tributary 4 | At the confluence with Forbush Creek | None | +830 | Unincorporated Areas of Yadkin County.
| Approximately 0.7 mile upstream of Griffin Road (State Road 1591) | None | +852 |
Forbush Creek Tributary 5 | At the confluence with Forbush Creek | None | +889 | Unincorporated Areas of Yadkin County.
| Approximately 0.8 mile upstream of Bovendertown Road (State Road 1584) | None | +942 |
Hall Creek | At the confluence with Yadkin River | None | +778 | Unincorporated Areas of Yadkin County.
| Approximately 0.4 mile upstream of the confluence of Hall Creek Tributary 2 | None | +902 |
Hall Creek Tributary 1 | At the confluence with Hall Creek | None | +853 | Unincorporated Areas of Yadkin County.
| Approximately 0.6 mile upstream of the confluence with Hall Creek | None | +875 |
Hall Creek Tributary 2 | At the confluence with Hall Creek | None | +874 | Unincorporated Areas of Yadkin County.
| Approximately 0.4 mile upstream of the confluence with Hall Creek | None | +901 |
Harmon Creek | Approximately 0.5 mile upstream of the confluence with South Deep Creek | +740 | +741 | Unincorporated Areas of Yadkin County.
| Approximately 1,990 feet upstream of Ray T Moore Road (State Road 1725) | None | +812 |
Hauser Creek | At the confluence with Yadkin River | None | +711 | Unincorporated Areas of Yadkin County.
| At the Davie/Yadkin County boundary | None | +711 |
Haw Branch | At the confluence with North Deep Creek | None | +800 | Unincorporated Areas of Yadkin County, Town of Yadkinville.
| Approximately 1.1 miles upstream of the confluence with North Deep Creek | None | +825 |
Jonesville Creek | At the confluence with Sandyberry Creek | None | +896 | Town of Jonesville.
| At the confluence of Cobb Creek and Beaverdam Creek | None | +909 |
Lineberry Creek | At the confluence with Yadkin River | None | +883 | Unincorporated Areas of Yadkin County.
| Approximately 1.2 miles upstream of NC Highway 67 | None | +900 |
Little Forbrush Creek | At the confluence with Forbrush Creek | None | +769 | Unincorporated Areas of Yadkin County.
| Approximately 1.3 miles upstream of the confluence with Little Forbrush Creek Tributary 1 | None | +956 |
Little Forbush Creek Tributary 1 | At the confluence witih Little Forbush Creek | None | +880 | Unincorporated Areas of Yadkin County.
| Approximately 0.9 mile upstream of the confluence with Little Forbush Creek | None | +956 |
Logan Creek | At the confluence with Forbush Creek | None | +720 | Unincorporated Areas of Yadkin County.
| Approximately 1,180 feet downstream of NC Highway 67 | None | +959 |
Logan Creek Tributary 1 | At the confluence with Logan Creek | None | +813 | Unincorporated Areas of Yadkin County.
| Approximately 2.2 miles upstream of the confluence with Logan Creek | None | +883 |
Logan Creek Tributary 2 | At the confluence with Logan Creek | None | +850 | Unincorporated Areas of Yadkin County.
| Approximately 1,800 feet upstream of Dal Road (State Road 1581) | None | +906 |
Logan Creek Tributary 3 | At the confluence with Logan Creek | None | +912 | Unincorporated Areas of Yadkin County.
| Approximately 1.5 miles upstream of Mill Hill Road (State Road 1542) | None | +987 |
Loney Creek | At the confluence with Logan Creek | None | +739 | Unincorporated Areas of Yadkin County.
| Approximately 1.7 miles upstream of the confluence with Logan Creek | None | +786 |
Long Branch | At the Iredell/Yadkin County boundary | None | +898 | Unincorporated Areas of Yadkin County.
| Approximately 0.7 mile upstream of Barron Hill Road (State Road 1102) | None | +948 |
Long Branch North | At the confluence with North Little Hunting Creek | None | +938 | Unincorporated Areas of Yadkin County.
| Approximately 1,350 feet upstream of Wells Hollow Drive | None | +1075 |
Mill Branch | At the confluence with Logan Creek | None | +722 | Unincorporated Areas of Yadkin County.
| Approximately 1.2 miles upstream of Bloomtown Road (State Road 1569) | None | +758 |
Miller Creek | At the confluence with Yadkin River | None | +757 | Unincorporated Areas of Yadkin County.
| Approximately 60 feet downstream of Apperson Road (State Road 1557) | None | +766 |
North Deep Creek | Approximately 250 feet upstream of the confluence with Deep Creek and South Deep Creek | None | +739 | Unincorporated Areas of Yadkin County, Town of Yadkinville.
| Approximately 1,290 feet downstream of Center Road (State Road 1381) | None | +1079 |
North Deep Creek Tributary 1 | At the confluence with North Deep Creek | None | +831 | Unincorporated Areas of Yadkin County.
| Approximately 1.5 miles upstream of the confluence with North Deep Creek | None | +872 |
North Deep Creek Tributary 2 | At the confluence with North Deep Creek | None | +835 | Unincorporated Areas of Yadkin County, Town of Yadkinville.
| Approximately 1.1 miles upstream of U.S. Highway 601 | None | +897 |
North Deep Creek Tributary 2A | At the confluence with North Deep Creek Tributary 2 | None | +860 | Town of Yadkinville.
| Approximately 0.7 mile upstream of the confluence with North Deep Creek Tributary 2 | None | +877 |
North Deep Creek Tributary 3 | At the confluence with North Deep Creek | None | +840 | Unincorporated Areas of Yadkin County.
| Approximately 0.4 mile upstream of Shugarts Mill Road (State Road 1379) | None | +873 |
North Deep Creek Tributary 4 | At the confluence with North Deep Creek | None | +847 | Unincorporated Areas of Yadkin County, Town of Boonville.
| Approximately 1.0 mile upstream of Baptist Church Road | None | +941 |
North Deep Creek Tributary 4A | At the confluence with North Deep Creek Tributary 4 | None | +854 | Unincorporated Areas of Yadkin County.
| Approximately 0.7 mile upstream of the confluence with North Deep Creek Tributary 4 | None | +875 |
North Deep Creek Tributary 4B | At the confluence with North Deep Creek Tributary 4 | None | +884 | Unincorporated Areas of Yadkin County.
| Approximately 0.4 mile upstream of Abraham Road (State Road 1512) | None | +921 |
North Little Hunting Creek | At the Iredell/Yadkin County boundary | None | +813 | Unincorporated Areas of Yadkin County.
| Approximately 0.4 mile upstream of Union Church Road (State Road 1109) | None | +1025 |
North Little Hunting Creek Tributary 1 | At the confluence with North Little Hunting Creek | None | +825 | Unincorporated Areas of Yadkin County.
| Approximately 0.5 mile upstream of the confluence with North Little Hunting Creek | None | +836 |
North Little Hunting Creek Tributary 2 | At the confluence with North Little Hunting Creek | None | +947 | Unincorporated Areas of Yadkin County.
| Approximately 210 feet downstream of Old U.S. Highway 421 West | None | +1091 |
Roby Creek | At the confluence with Turner Creek | None | +712 | Unincorporated Areas of Yadkin County.
| Approximately 0.7 mile upstream of Georgia Road (State Road 1717) | None | +761 |
Rocky Branch | At the confluence with North Little Hunting Creek | None | +887 | Unincorporated Areas of Yadkin County.
| Approximately 630 feet downstream of Rocky Branch Road | None | +1027 |
Sandyberry Creek | At the upstream side of Center Road | None | +948 | Unincorporated Areas of Yadkin County, Town of Jonesville.
| Approximately 140 feet downstream of Interstate 77 | None | +1062 |
South Deep Creek | At Old Stage Road (State Road 1733) | None | +741 | Unincorporated Areas of Yadkin County, Town of Yadkinville.
| Approximately 1,700 feet downstream of Rock House Mountain Road (State Road 1349) | None | +1043 |
South Deep Creek Tributary 1 | At the confluence with South Deep Creek | None | +763 | Unincorporated Areas of Yadkin County, Town of Yadkinville.
| Approximately 1,580 feet upstream of Billy Reynolds Road (State Road 1134) | None | +932 |
South Deep Creek Tributary 3 | At the confluence with South Deep Creek | None | +780 | Unincorporated Areas of Yadkin County.
| Approximately 0.5 mile upstream of Merry Acres Drive | None | +818 |
South Deep Creek Tributary 3A | At the confluence with South Deep Creek Tributary 3 | None | +784 | Unincorporated Areas of Yadkin County.
| Approximately 780 feet upstream of Helton Road (State Road 1136) | None | +802 |
South Deep Creek Tributary 3B | At the confluence with South Deep Creek Tributary 3 | None | +794 | Unincorporated Areas of Yadkin County.
| Approximately 0.5 mile upstream of Arnold Road (State Road 1132) | None | +827 |
South Deep Creek Tributary 4 | At the confluence with South Deep Creek | None | +885 | Unincorporated Areas of Yadkin County.
| Approximately 0.4 mile upstream of Cranberry Road (State Road 1343) | None | +1078 |
South Deep Creek Tributary 4A | At the confluence with South Deep Creek Tributary 4 | None | +1051 | Unincorporated Areas of Yadkin County.
| Approximately 550 feet downstream of Longtown Road (State Road 1338) | None | +1075 |
South Deep Creek Tributary 5 | At the confluence with South Deep Creek | None | +930 | Unincorporated Areas of Yadkin County.
| Approximately 900 feet upstream of Marler Road (State Road 1103) | None | +1076 |
South Deep Creek Tributary 5A | At the confluence with South Deep Creek Tributary 5 | None | +954 | Unincorporated Areas of Yadkin County.
| Approximately 360 feet downstream of Marler Road (State Road 1103) | None | +1043 |
South Deep Creek Tributary 6 | At the confluence with South Deep Creek | None | +1007 | Unincorporated Areas of Yadkin County.
| Approximately 160 feet downstream of U.S. Highway 21 | None | +1017 |
South Deep Tributary 7 | At the confluence with South Deep Creek | None | +1020 | Unincorporated Areas of Yadkin County.
| Approximately 1,100 feet downstream of Swaims Church Road (State Road 1347) | None | +1035 |
Steelman Creek | At the Davie/Yadkin County boundary | None | +795 | Unincorporated Areas of Yadkin County.
| Approximately 0.9 mile upstream of Else Road (State Road 1163) | None | +829 |
Tanyard Creek | At the confluence with Yadkin River | None | +840 | Unincorporated Areas of Yadkin County, Town of Boonville.
| Approximately 1.4 miles upstream of River Road (State Road 1367) | None | +909 |
Turner Creek | At the confluence with Yadkin River | None | +712 | Unincorporated Areas of Yadkin County.
| Approximately 0.4 mile upstream of Turners Creek Road (State Road 1728) | None | +824 |
Turner Creek Tributary 1 | At the confluence with Turner Creek | None | +712 | Unincorporated Areas of Yadkin County.
| Approximately 0.7 mile upstream of the confluence with Turner Creek | None | +719 |
Walkers Branch | At the confluence with North Little Hunting Creek | None | +880 | Unincorporated Areas of Yadkin County.
| Approximately 0.5 mile upstream of Buck Shoals Road (State Road 1103) | None | +1006 |
Williams Creek | At the confluence with Yadkin River | None | +882 | Unincorporated Areas of Yadkin County.
| Approximately 180 feet upstream of Hailey Drive | None | +899 |
Yadkin River | At the Davie/Forsyth/Yadkin County boundary | None | +711 | Unincorporated Areas of Yadkin County, Town of Jonesville.
| Approximately 500 feet downstream of the Surry/Wilkes/Yadkin County boundary | +904 | +903 |
Yadkin River Tributary 10 | At the confluence with Yadkin River | None | +748 | Unincorporated Areas of Yadkin County.
| Approximately 90 feet downstream of Hauser Road | None | +784 |
Yadkin River Tributary 11 | At the confluence with Yadkin River | None | +854 | Unincorporated Areas of Yadkin County, Town of Boonville.
| Approximately 1.0 mile upstream of U.S. Highway 601 | None | +964 |
Yadkin River Tributary 15 | At the confluence with Yadkin River | None | +815 | Unincorporated Areas of Yadkin County.
| Approximately 475 feet upstream of Limerock Road (State Road 1529) | None | +826 |
Yadkin River Tributary 17 | At the confluence with Yadkin River | None | +827 | Unincorporated Areas of Yadkin County.
| Approximately 0.5 mile upstream of Doe Run Drive | None | +849 |
Yadkin River Tributary 27 | At the confluence with Yadkin River | None | +771 | Unincorporated Areas of Yadkin County, Town of East Bend.
| Approximately 3.2 miles upstream of the confluence with Yadkin River | None | +951 |
Yadkin River Tributary 9 | At the confluence with Yadkin River | None | +741 | Unincorporated Areas of Yadkin County.
| Approximately 1.8 miles upstream of Butner Mill Road (State Road 1562) | None | +847 |
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Boonville
Maps are available for inspection at Boonville Town Hall, 110 North Carolina Avenue, Boonville, NC.
Town of East Bend
Maps are available for inspection at East Bend Town Hall, 108 West Main Street, East Bend, NC.
Town of Jonesville
Maps are available for inspection at Jonesville Town Hall, 136 West Main Street, Jonesville, NC.
Town of Yadkinville
Maps are available for inspection at Yadkinville Town Hall, 213 Van Buren Street, Yadkinville, NC.
Unincorporated Areas of Yadkin County
Maps are available for inspection at Yadkin County Manager's Office, 217 East Willow Street, Yadkinville, NC.
Bexar County, Texas, and Incorporated Areas
Ackerman Creek | At the confluence with Rosillo Creek | None | +651 | City of San Antonio.
| Approximately 1,600 feet upstream of Candlemeadow | None | +698 |
Balcones Creek | At the confluence with Cibolo Creek | +1278 | +1277 | City of Fair Oaks Ranch, City of San Antonio, Unincorporated Areas of Bexar County.
| At the confluence with Tributary A | None | +1580 |
Beital Creek Tributary A | Approximately 600 feet upstream of confluence with Beital Creek | +722 | +723 | City of San Antonio, City of Windcrest.
| Approximately 1,500 feet upstream of Jim Seal Drive | None | +792 |
Bertal Creek | Just upstream of confluence with Salado Creek | +694 | +697 | City of San Antonio.
| Just upstream of Nacogdoches Road | +827 | +828 |
Caracol Creek | Approximately 600 feet upstream of confluence with Medio Creek | +773 | +770 | City of San Antonio.
| Approximately 3,700 feet upstream of West Military Drive | None | +854 |
Catalpa Pershing Channel | Just upstream of U.S. Highway 281 | None | +661 | City of San Antonio.
| Approximately 1,000 feet upstream of Mulberry Avenue | None | +672 |
Chimenea Creek | At the confluence with Helotes Creek | None | +1086 | City of San Antonio.
| Approximately 5 miles upstream of Private Road | None | +1398 |
Comanche Creek | Approximately 4,500 feet downstream of Mauemann Road | None | +525 | City of San Antonio.
| Approximately 700 feet upstream of Applewhite Road | None | +572 |
Concepcion Creek | Approximately 400 feet downstream of Probandt Street | None | +592 | City of San Antonio.
| Approximately 400 feet upstream of U.S. Highway 90 W Access Road | None | +683 |
Culebra Creek | Approximately 1,800 feet upstream of confluence with Leon Creek | +775 | +779 | City of San Antonio.
| Approximately 9,000 feet upstream of Galm Road | None | +1003 |
Culebra Creek Tributary A | Just downstream of Grissom Road | +794 | +792 | City of San Antonio.
| Approximately 1,500 feet upstream of Dover Ridge | None | +899 |
Culebra Creek Tributary B | Approximately 200 feet downstream of Culebra Road | None | +864 | City of San Antonio.
| Approximately 600 feet upstream of Culebra Road | None | +868 |
Culebra Creek Tributary C | Approximately 4,000 feet downstream of FM 1560 North | None | +895 | City of San Antonio, City of Helotes.
| Approximately 500 feet upstream of Beverly Hills Road | None | +996 |
Culebra Creek Tributary C-1 | Approximately 800 feet upstream of the confluence with Culebra Creek Tributary C at the FM 1560 N | None | +909 | City of San Antonio.
| Approximately 1,800 feet upstream of Shaenfield Road | None | +923 |
Culebra Creek Tributary D | Approximately 2,400 feet downstream of FM 1560 North | None | +892 | City of San Antonio.
| Approximately 3,200 feet upstream of Gass Road | None | +960 |
Culebra Creek Tributary E | Approximately 110 feet upstream of Galm Road | None | +953 | City of San Antonio.
| Approximately 2,700 feet upstream of Remuda Ranch | None | +998 |
Culebra Creek Tributary F | Approximately 1,500 feet upstream of Kallison Lane | None | +980 | City of San Antonio.
| Approximately 6,200 feet upstream of Kallison Lane | None | +1007 |
Elm Creek | At the confluence with Mud Creek | +794 | +790 | City of San Antonio.
| Approximately 900 feet upstream of Loop 1604 Access Road | +833 | +834 |
Elm Waterhole Creek | Approximately 4,300 feet downstream of Redland Road | +798 | +796 | City of San Antonio.
| Approximately 2,700 feet downstream of Judson Road | None | +847 |
Escondido Creek | Approximately 700 feet downstream of private road near the confluence with Martinez Creek B | None | +575 | City of San Antonio, City of New Berlin.
| Approximately 1,200 feet upstream of Binz-Engleman Road | None | +695 |
Fort Sam Houston Tributary | Just upstream of Road S-33 E | +647 | +645 | Unincorporated Areas of Bexar County, City of San Antonio, City of Terrell Hills.
| Approximately 300 feet upstream of Rittiman Road | None | +746 |
French Creek | Approximately 1,250 feet downstream of Private Road at 7581 Bandera Road | None | +826 | City of San Antonio.
| Approximately 150 feet upstream of FM 1560 at French Creek | None | +995 |
French Creek Tributary A | Just upstream of Hausman Road South | +922 | +923 | City of San Antonio.
| Just upstream of Loop 1604 West Access Road | +938 | +936 |
French Creek Tributary B | Approximately 600 feet downstream of Loop 1604 West Access Road | +926 | +929 | City of San Antonio.
| Just upstream of Loop 1604 West Access Road | +936 | +937 |
French Creek Tributary No. 2 | Approximately 1,180 feet downstream of Braun Hollow | None | +848 | City of San Antonio.
| Approximately 980 feet downstream of Braun Hollow | None | +849 |
French Creek Tributary No. 4 | Approximately 1,370 feet upstream of Guilbeau Road along French Creek | None | +852 | City of San Antonio.
| Approximately 970 feet upstream of Tezel Road | None | +908 |
Government Canyon Tributary E | Approximately 500 feet upstream of confluence with Government Canyon | None | +1198 | City of San Antonio.
| Approximately 900 feet upstream of confluence with Government Canyon | None | +1216 |
Government Canyon Creek | Approximately 950 feet upstream of confluence with Culebra Creek | None | +926 | City of San Antonio.
| Approximately 1,300 feet upstream of Helotes Springs | None | +1327 |
Government Canyon Creek Tributary B | Approximately 2,900 feet upstream of Galm Road along Government Canyon Creek | None | +968 | City of San Antonio.
| Approximately 1.2 miles above Galm Road along Government Canyon Creek | None | +1000 |
Government Canyon Creek Tributary C | Approximately 170 feet upstream of confluence with Government Canyon | None | +1028 | City of San Antonio.
| Approximately 1,600 feet upstream of confluence with Government Canyon | None | +1055 |
Government Canyon Creek Tributary A | Approximately 1,050 feet upstream of Galm Road | None | +958 | City of San Antonio.
| Approximately 3.5 miles upstream of Galm Road | None | +1132 |
Government Canyon Greek Tributary D | Approximately 650 feet upstream of confluence with Government Canyon Creek | None | +1176 | City of San Antonio.
| Approximately 4,100 feet upstream of confluence with Government Canyon Creek | None | +1216 |
Helotes Creek | Approximately 2,000 feet upstream of confluence with Culebra Creek | +855 | +852 | City of San Antonio, City of Grey Forest, City of Helotes.
| Approximately 3,000 feet upstream of Four Rogers Road | None | +1240 |
Helotes Creek Tributary A | Approximately 2,800 feet downstream of FM 1560 North | None | +970 | City of San Antonio, City of Helotes.
| Approximately 700 feet upstream of Parrigin Road | None | +1039 |
Huebner Creek | Approximately 400 feet upstream of Ingram Road | +765 | +768 | City of San Antonio, City of Leon Valley.
| Approximately 2,500 feet downstream of DeZavala Road | +958 | +956 |
Huebner Creek Tributary A | Approximately 1,300 feet downstream of Eckhert Road | +841 | +843 | City of San Antonio.
| Approximately 260 feet downstream of Southwell Road | None | +918 |
Huesta Creek | Approximately 2,400 feet downstream of Old Babcock Road | +920 | +922 | City of San Antonio.
| Approximately 5,000 feet upstream of Arroyo Hondo | None | +1102 |
Huesta Creek Tributary A | Just upstream of Hausman Road | None | +957 | City of San Antonio.
| Approximately 1,300 feet upstream of Old Cedar Boulevard | None | +989 |
Indian Creek | Approximately 4,000 feet downstream of Ripps Ranch Road | +565 | +572 | City of San Antonio.
| Approximately 600 feet upstream of Medina Base Road | None | +716 |
Lee Creek | Just downstream of Hilltop Drive | +1105 | +1106 | City of San Antonio, City of Grey Forest.
| Approximately 1,600 feet downstream of Babcock Road | None | +1240 |
Leon Creek | Approximately 2,500 feet upstream of Missouri Pacific Railroad along Medina River | None | +519 | City of San Antonio, Unincorporated Areas of Bexar County.
| Approximately 4,900 feet upstream of Miranda Ridge | None | +1400 |
Leon Creek Overflow | Just upstream of Prue Road at confluence with Leon Creek | +888 | +889 | City of San Antonio.
| Approximately 1,230 feet downstream at Hausman Road | +946 | +948 |
Leon Creek Tributary B | Approximately 500 feet upstream of confluence with Leon Creek | None | +598 | City of San Antonio.
| Approximately 130 feet downstream of Somerset Road | None | +624 |
Leon Creek Tributary C | Approximately 750 feet upstream of confluence with Leon Creek | None | +635 | City of San Antonio.
| Approximately 2,200 feet upstream of Southwest Military Drive | None | +653 |
Leon Creek Tributary D | Approximately 120 feet downstream of Kelly Drive | None | +667 | Unincorporated Areas of Bexar County.
| Approximately 1,600 feet downstream of Growndon Road | None | +675 |
Leon Creek Tributary E | At confluence with Leon Creek | None | +672 | Unincorporated Areas of Bexar County.
| Approximately 140 feet downstream of Unnamed Street in Lackland AFB | None | +719 |
Leon Creek Tributary E1 | Approximately 210 feet upstream of confluence with Leon Creek Tributary E | None | +672 | Unincorporated Areas of Bexar County.
| Approximately 100 feet upstream of Kenly Avenue | None | +738 |
Leon Creek Tributary F | At confluence with Leon Creek | None | +713 | City of San Antonio.
| Just upstream of South Callaghan Road | None | +715 |
Leon Creek Tributary J | Approximately 300 feet downstream of Intersate Highway 10 West | None | +1107 | City of San Antonio.
| Approximately 200 feet downstream of Cielo Vista Road | None | +1174 |
Leon Creek Tributary L | Approximately 150 feet upstream of Boerne Stage Road | None | +1149 | City of San Antonio.
| Approximately 1,900 feet upstream of Boerne Stage Road | None | +1157 |
Leon Creek Tributary M | Approximately 1,300 feet downstream of Boerne Stage Road | None | +1202 | City of San Antonio.
| Approximately 2.18 miles upstream of Boerne Stage Road | None | +1348 |
Leon Creek Tributary N | Approximately 350 feet upstream of confluence with Leon Creek at the Unnamed Road | None | +1277 | City of San Antonio.
| Approximately 3,700 feet upstream of Unnamed Road | None | +1323 |
Live Oak Slough | Approximately 1,700 feet downstream of Rife Lane | None | +559 | City of San Antonio.
| Approximately 1,200 feeet upstream of Old Pearsall Road at Loop 1604 | None | +617 |
Lorence Creek | Approximately 100 feet downstream of Entrance Avenue | +738 | +736 | City of San Antonio, Town of Hollywood Park.
| Just upstream of Sonterra Boulevard | None | +967 |
Los Reyes Creek | Approximately 2,000 feet downstream of Antonio Drive | +1025 | +1026 | City of San Antonio, City of Helotes.
| Approximately 4,200 feet upstream of State Highway 16 North | None | +1299 |
Los Reyes Creek Tributary A | Approximately 300 feet upstream of confluence with Los Reyes Creek | None | +1175 | City of San Antonio.
| Approximately 250 feet upstream of Private Road at 18524 State Highway 16 | None | +1210 |
Lower French Creek | Approximately 170 feet downstream of Heliport Drive | +800 | +802 | City of San Antonio.
| Approximately 100 feet downstream of Low Bid Lane | +826 | +825 |
Lower Mud Creek | Just downstream of Wurzbach Parkway | +737 | +732 | City of San Antonio.
| Approximately 6,000 feet upstream of west Bound Loop 1604 | None | +893 |
Macaway Creek | Approximately 4,000 feet downstream of U.S. Highway 87 | None | +509 | Unincorporated Areas of Bexar County, City of San Antonio.
| Approximately 1,450 feet downstream of LaVernia Road | None | +614 |
Martinez Creek B | At the confluence with Cibolo Creek | None | +527 | City of St. Hedwig, City of New Berlin, City of San Antonio.
| Approximately 1,400 feet upstream of Crestway Drive | None | +822 |
Maverick Creek | Approximately 400 feet upstream of Old Babcock Road | +925 | +926 | City of San Antonio.
| Approximately 1,400 feet upstream of Kyle Seale Parkway | None | +1174 |
Medina River | Approximately 2,000 feet upstream of Interstate Highway 37 South along San Antonio River | None | +478 | City of San Antonio, Unincorporated Areas of Bexar County.
| Approximately 5,000 feet upstream of Gross Lane | +688 | +690 |
Medio Creek | Approximately 100 feet downstream of Campground Road | None | +556 | City of San Antonio, Unincorporated Areas of Bexar County.
| Approximately 8,700 feet upstream of Talley Road | None | +875 |
Meusebach Creek | Approximately 1,370 feet downstream of private road at 188 Specht Road | None | +1111 | City of San Antonio, Unincorporated Areas of Bexar County.
| Approximately 1,360 feet upstream of Blanco Road | None | +1140 |
New Braunfels Avenue, Austin Highway and Broadway Drain | At the confluence with San Antonio River | +682 | +684 | City of Alamo Heights, City of San Antonio, City of Terrell Hills.
| Just upstream of Ridgehaven Place | None | +794 |
Nichols Creek | Just downstream of Aue Road | None | +1131 | City of San Antonio.
| Approximately 1,700 feet upstream of Old Fredericksburg Access Road | None | +1241 |
Nichols Creek Tributary 1 | Just downstream of Interstate Highway 10 West Access Road | None | +1158 | City of San Antonio.
| Approximately 900 feet downstream of Lost Creek Way | None | +1166 |
Olmos Creek (Lower and Upper Reaches) | At confluence with San Antonio River | +726 | +722 | Town of Shavano Park, City of Alamo Heights, City of Castle Hills, City of San Antonio.
| Approximately 3,000 feet upstream of Lou Mell Road | None | +1047 |
Panthe Spring Creek | Just upstream of North Loop Road | +798 | +796 | City of San Antonio, Town of Hollywood Park.
| Approximately 3,000 feet upstream of Loop 1604 | None | +963 |
Pecan Creek | Approximately 550 feet upstream of confluence with Leon Creek | None | +1237 | City of San Antonio.
| Just downstream of Private Road at 26690 Toutant Beauregard Road | None | +1366 |
Polecat Creek | Approximately 2,900 feet downstream of Cagnon Road | None | +618 | City of San Antonio.
| Just upstream of South Keller Road | +701 | +703 |
Quail Creek | Just downstream of Interstate Highway 410 | +707 | +709 | City of San Antonio.
| Approximately 1,300 feet upstream of Oakhaven Road | None | +754 |
Ranch Creek | Approximately 650 feet upstream of confluence with Los Reyes Creek | None | +1092 | City of San Antonio.
| Approximately 4,000 feet upstream of confluence with Los Reyes Creek | None | +1123 |
Rittman Creek | Just downstream of Summer Fest | None | +689 | City of Kirby, City of San Antonio.
| Approximately 3,000 feet upstream of Rittman Road | None | +719 |
Rock Creek | At confluence with Olmos Creek | +761 | +763 | City of San Antonio.
| Approximately 600 feet downstream of Datapoint Road | None | +894 |
Rosillo Creek | Approximately 400 feet upstream of Old Corpus Christi Road | None | +532 | City of Kirby, City of San Antonio.
| Approximately 550 feet upstream of Walzem Road | None | +756 |
Rundale Creek | Approximately 250 feet downstream of private road at Upper Balcones Road | None | +1457 | Unincorporated Areas of Bexar County.
| Approximately 4,050 feet upstream of Upper Balcoones Road | None | +1639 |
Salado Creek | At the confluence with San Antonio River | None | +599 | City of San Antonio, Town of Shavano Park, Unincorporated Areas of Bexar County.
| Approximately 100 feet downstream of Loop W Access Road | +951 | +948 |
San Antonio River | Approximately 4.5 miles downstream of Loop 1604 | None | +435 | City of San Antonio, City of Alamo Heights.
| Downstream of Almos Dam | +686 | +685 |
Selma Creek | At confluence with Cibolo Creek | +738 | +743 | City of Selma, City of San Antonio.
| Approximately 1,900 feet upstream of Loop 1604 | None | +850 |
Slick Ranch Creek | Approximately 1,000 feet downstream of Pinn Road | +706 | +711 | City of San Antonio.
| Approximately 1,100 feet upstream of Rogers Road | None | +874 |
Slick Ranch Creek Tributary B | Approximately 650 feet upstream of Richland Hills Road | None | +761 | City of San Antonio.
| Approximately 1,400 feet upstream of Potranco Road | None | +778 |
Tributary A to Panther Springs Creek | Approximately 1,200 feet downstream of Blanco Road at confluence with Panther Spring Creek | None | +844 | City of San Antonio.
| Approximately 200 feet downstream of Loop 1604 W Access Road | None | +942 |
Tributary A to Salado Creek | Just downstream of Unnamed Park Road at Pecan Valley | +570 | +573 | City of San Antonio.
| Approximately 200 feet upstream of Gateway | None | +602 |
Tributary A-1 to Panther Spring Creek | Approximately 50 feet downstream of Private Road | None | +921 | City of San Antonio.
| Just downstream of Loop 1604 W Access Road | None | +962 |
Tributary B To Salado Creek | At confluence with Salado Creek | +596 | +598 | City of San Antonio.
| Approximately 400 feet upstream of Amanda Street | None | +622 |
Tributary C to Salado Creek | At confluence with Salado Creek | +620 | +621 | City of San Antonio.
| Just upstream of Seguin Street | None | +691 |
Tributary C to Selma Creek | Approximately 1,600 feet downstream of North Loop 1604 | None | +799 | City of Selma, City of Live Oak, City of San Antonio.
| Approximately 2,700 feet upstream of North Loop 1604 | None | +846 |
Tributary D to Salado Creek | Just upstream of Ira Lee Road | +705 | +708 | City of San Antonio.
| Approximately 900 feet upstream of Tesoro River | None | +753 |
Tributary D to Selma Creek | Approximately 250 feet downstream of North Loop 1604 Access Road | None | +813 | City of San Antonio.
| Approximately 1,700 feet upstream of North Loop 1604 Access Road | None | +853 |
Tributary E To Salado Creek | Approximately 550 feet downstream of Nacogdoches Road | +725 | +727 | City of San Antonio.
| Approximately 600 feet upstream of Perrin Beitel Road | None | +787 |
Tributary E to Martinez Creek B | Approximately 400 feet downstream of NRCS Dam No 2 | None | +638 | City of San Antonio.
| Approximately 1,500 feet downstream of Lucky Feilds | None | +688 |
Tributary E to Salado Creek | Approximately 1,200 feet upstream of Nacogdoches Road | +721 | +724 | City of San Antonio.
| Approximately 900 feet upstream of O'Connor Road | None | +868 |
Tributary F to Martinez Creek B | Approximately 3,000 feet downstream of Walzem Road | None | +678 | City of San Antonio.
| Approximately 1,800 feet upstream of Elm Trail Drive | None | +733 |
Tributary G to Martinez Creek B | Approximately 750 feet upstream of confluence with Balcones Creek at Boerne Stage Road | None | +1370 | City of San Antonio.
| Approximately 2,700 feet upstream of confluence with Balcones Creek at Boerne Stage Road | None | +1391 |
Tuttle Road Ditch | Approximately 300 feet downstream of Harry Wurzbach Road | None | +684 | City of Terrell Hills, City of San Antonio, Unincorporated Areas of Bexar County.
| Approximately 500 feet upstream of Harry Wurzbach Road | None | +697 |
US 281 Tributary Salado Creek | Downstream of Country Parkway | +782 | +784 | City of Hill Country Village, City of San Antonio.
| Upstream of Blackhawk Trail | None | +881 |
UTSA Tributary to Leon Creek | Approximately 1,300 feet upstream of UTSA Boulevard | +960 | +956 | City of San Antonio.
| Approximately 700 feet upstream of UTSA Boulevard | +975 | +972 |
Unnamed Tributary 1 to Beitel Creek | At confluence with Beitel Creek | None | +707 | City of San Antonio.
| Just upstream of Interstate Highway 35 | None | +752 |
Unnamed Tributary 1 to Elm Waterhole Creek | Just upstream of Loop 1604 E Access Road at confluence with Elm Waterhole Creek | None | +833 | City of San Antonio.
| Approximately 1,000 feet downstream of Roseheart | None | +892 |
Unnamed Tributary 2 in Olmos Creek Watershed | Just downstream of Rock Creek Run | None | +836 | City of San Antonio.
| Approximately 800 feet upstream of Rock Creek Run | None | +847 |
Unnamed Tributary 2 to Beitel Creek | Downstream of Old O'Connor Road | None | +789 | City of San Antonio.
| Just upstream of Judson Road | None | +848 |
Unnamed Tributary 3 in Olmos Creek Watershed | Downstream of Greely Street | None | +722 | City of Alamo Heights.
| Approximately 250 feet downstream of Townsend Avenue | None | +746 |
Unnamed Tributary 3 to Beitel Creek | Approximately 100 feet downstream of O'Connor Road | None | +812 | City of San Antonio.
| Approximately 1,500 feet upstream of Dreamwood Drive | None | +850 |
Unnamed Tributary 5 in Olmos Creek Watershed | At the confluence with Olmos Creek | None | +960 | Town of Shavano Park, City of San Antonio.
| Approximately 5,000 feet upstream of Northwest Loop 1604 | None | +1041 |
Unnamed Tributary 5 to Caracol | Approximately 900 feet downstream of West Loop 1604 N | None | +828 | City of San Antonio.
| Approximately 300 feet upstream of Copperfield | None | +866 |
Unnamed Tributary 6 in Olmos Creek Watershed | At confluence with West Fork Olmos Creek | None | +932 | City of San Antonio.
| Approximately 600 feet upstream of DeZavala Road | None | +942 |
Unnamed Tributary to Rundale Creek | At the confluence with Rundale Creek | None | +1480 | Unincorporated Areas of Bexar County.
| Approximately 70 feet upstream of Grow Ranch | None | +1548 |
Walzem Creek | Just upstream of Judivan Drive | +673 | +678 | City of Windcrest, City of San Antonio.
| Approximately 200 feet downstream of Crestway Drive | +840 | +841 |
West Fork Olmos Creek Upper | Approximately 1,300 feet upstream of confluence with Olmos Creek | +830 | +831 | City of San Antonio.
| Approximately 4,000 feet upstream of Rod Maplewood | None | +970 |
West Salitrillo Creek | Approximately 100 feet downstream of FM 1516 | +647 | +646 | City of San Antonio, City of Converse, City of Live Oak, Unincorporated Areas of Bexar County.
| About 200 feet upstream of Avery Road | +889 | +886 |
West Tributary to Rosillo Creek | Approximately 550 feet upstream of confluence with Rosillo Creek | None | +673 | City of Kirby.
| Approximately 500 feet upstream of Old Seguin Road | None | +694 |
Westwood Village Creek | Approximately 100 feet upstream of Old U.S. Highway 90 | +698 | +700 | City of San Antonio.
| Approximately 1,000 feet upstream of Pinn Road | None | +724 |
Wildcat Canyon | At confluence with Government Canyon Creek | None | +1058 | City of San Antonio.
| Approximately 300 feet upstream of confluence with Government Canyon Creek | None | +1058 |
Woman Hollering Creek | Approximately 850 feet downstream of New Berlin Road | None | +539 | Unincorporated Areas of Bexar County, City of New Berlin, City of Schertz, City of St. Hedwig.
| Approximately 1,100 feet usptream of Golf Road | None | +719 |
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Alamo Heights
Maps are available for inspection at 6116 Broadway Street, San Antonio, TX 78209.
City of Castle Hills
Maps are available for inspection at 6915 West Avenue, Castle Hills, TX 78213.
City of Converse
Maps are available for inspection at 403 South Seguin, P. O. Box 35, Converse, TX 78109.
City of Fair Oaks Ranch
Maps are available for inspection at 7286 Dietz Elkhorn, Fair Oaks Ranch, TX 78015.
City of Grey Forest
Maps are available for inspection at 18502 Scenic Loop Rd, Grey Forest, TX 78023.
City of Helotes
Maps are available for inspection at 12951 Bandara Road, Helotes, TX 78023.
City of Hill Country Village
Maps are available for inspection at 116 Aspen Lane, San Antonio, TX 78232.
City of Kirby
Maps are available for inspection at 5631 Binz Engleman Road, Kirby, TX 78219.
City of Leon Valley
Maps are available for inspection at 6400 El Verde Road, Leon Valley, TX 78238.
City of Live Oak
Maps are available for inspection at 8001 Shin Oak Drive, Live Oak, TX 78233.
City of New Berlin
Maps are available for inspection at 415 East Donnegan Street, Maintenance Building, Seguin, TX 78155.
City of San Antonio
Maps are available for inspection at 114 West Commerce, Seventh Floor, San Antonio, TX 78205.
City of Schertz
Maps are available for inspection at 1400 Schertz Parkway, Schertz, TX 78154.
City of Selma
Maps are available for inspection at 9375 Corporate, Selma, TX 78154.
City of St. Hedwig
Maps are available for inspection at 13065 FM 1346, St. Hedwig, TX 78152.
City of Terrell Hills
Maps are available for inspection at 5100 N. New Braunfels, San Antonio, TX 78209.
City of Universal City
Maps are available for inspection at 2150 Universal City Blvd., Universal City, TX 78148.
City of Windcrest
Maps are available for inspection at 8601 Midcrown, Windcrest, TX 78239.
Town of Hollywood Park
Maps are available for inspection at 407 Rhapsody Lane, Hollywood Park, TX 78216.
Town of Shavano Park
Maps are available for inspection at 99 Saddletree Court, Shavano Park, TX 78231.
Unincorporated Areas of Bexar County
Maps are available for inspection at 233 North Pecos Street, La Trinidad, Suite 420, San Antonio, TX 78207.

(Catalog of Federal Domestic Assistance No. 97.022, “Flood Insurance.”)

Dated: March 25, 2008.
David I. Maurstad,
Federal Insurance Administrator of the National Flood Insurance Program, Department of Homeland Security, Federal Emergency Management Agency.

[FR Doc. E8-6913 Filed 4-2-08; 8:45 am]

BILLING CODE 9110-12-P